LIBRARY OF CONGRESS

Copyright Office

37 CFR Part 202

[Docket No. 2023-3]

Access to Electronic Works

AGENCY: U.S. Copyright Office, Library of Congress.

ACTION: Notice of proposed rulemaking; extension of comment period.

SUMMARY: The U.S. Copyright Office is extending the deadline to submit comments in connection with a notice of proposed rulemaking regarding expanding the categories of electronic deposits in its regulation governing electronic deposits of published works submitted to the Office that have been selected for addition to the collections of the Library of Congress.

DATES: Written reply comments must be received by no later than 11:59 p.m. Eastern Time on October 30, 2023.

ADDRESSES: For reasons of government efficiency, the Copyright Office is using the regulations.gov system for the submission and posting of public comments in this proceeding. All comments are therefore to be submitted electronically through regulations.gov. Specific instructions for submitting comments are available on the Copyright Office website at https://www.copyright.gov/rulemaking/edeposit-access.

FOR FURTHER INFORMATION CONTACT: Rhea Efthimiadis, Assistant to the General Counsel, by email at meft@copyright.gov or telephone at 202-707-8350.

SUPPLEMENTARY INFORMATION: On September 1, 2023, the U.S. Copyright Office issued a notice of proposed rulemaking seeking comments from the public on questions regarding expanding the categories of electronic deposits in its regulation governing electronic deposits of published works submitted to the Office that have been selected for addition to the collections of the Library of Congress.¹ The notice set an October 2, 2023 deadline for submitting initial comments and an October 16, 2023 deadline for reply comments.

¹ 88 FR 60413 (Sept. 1, 2023).

To ensure that members of the public have sufficient time to prepare responses to the Office, and to ensure that the Office can proceed on a timely basis with its inquiry of the issues identified in its notice with the benefit of a complete record, the Office is extending the reply comment period deadline as set forth here. Reply comments will now be due by 11:59 p.m. Eastern Time on Tuesday, October 30, 2023.

Dated: October 12, 2023.
Maria Strong,
Associate Register of Copyrights and Director of Policy and International Affairs.

[FR Doc. 2023-22930 Filed 10-17-23; 8:45 am]

BILLING CODE 1410-30-P